DEPARTMENT OF HEALTH AND HUMAN SERVICES

Office of the Secretary

48 CFR Chapter 3

Acquisition Regulation

AGENCY: Department of Health and Human Services (HHS).

ACTION: Final rule; correction.

SUMMARY: The Department of Health and Human Services is correcting a direct final rule that appeared in the Federal Register on January 3, 2005 amending its acquisition regulation (HHSAR). Significant adverse comments were not received and the direct final rule became effective on March 4, 2005. The final rule is being corrected to address non-adverse comments received in response to the direct final rule.

DATE: Effective Date: Effective on March 9, 2005.

FOR FURTHER INFORMATION CONTACT: Tracey Mock, Office of Acquisition Management and Policy, telephone (202) 205-4430, e-mail: Tracey.Mock@ hhs.gov.

SUPPLEMENTARY INFORMATION:

A. Background

The Department of Health and Human Services issued a direct final rule on January 3, 2005 amending its acquisition regulation (HHSAR) and comments were due by February 2, 2005. Comments were received requesting (1) that contracts covered by the Service Contract Act not be excluded from the authority to write service contracts for a period of up to 10 years, (2) that the assignment of order numbers be up to seventeen digits, rather than requiring that all orders be comprised of seventeen digits, and (3) the redesignation of paragraphs pertaining to numbering acquisitions. The direct final rule, which became a final rule on March 4, 2005, is being corrected to reflect these comments.

List of Subjects in 48 CFR, Parts 304, 317, and 352.

Government procurement.

Dated: March 3, 2005.
Ed Sontag,
Assistant Secretary for Administration and Management.

Accordingly, 48 CFR chapter 3, parts 304, 317, and 352 are corrected as follows:

1. The authority citation for 48 CFR chapter 3, parts 304, 317, and 352 continues to read as follows:

Authority: 5 U.S.C. 301; 40 U.S.C. 486(c).

PART 304—ADMINISTRATIVE MATTERS

304.7001 Numbering Acquisitions. [Amended]

2. Redesignate paragraph 304.7001(d) as paragraph 304.7001(e).

3. Redesignate paragraph 304.7001(c) as paragraph 304.7001(d).

4. Revise paragraph (a) introductory text and add paragraph (c) of Section 304.7001 to read as follows:

304.7001 Numbering acquisitions.

a. Acquisitions which require numbering. The following acquisitions shall be numbered in accordance with the system prescribed in paragraphs (b), (c), and (d) of this section:

b. * * *

c. Numbering system for orders. Order numbers will be assigned to contracts with orders. The order number shall be up to a seventeen digit number consisting of the following:

(1) The three digit identification code of the Department (HHS);

(2) A one digit numeric identification code of the servicing agency:

O Office of the Secretary

P Program Support Center

M Centers for Medicare & Medicaid Services

F Food and Drug Administration

D Centers for Disease Control and Prevention

I Indian Health Service

S Substance Abuse and Mental Health Administration

N National Institutes of Health

H Health Resources and Services Administration

A Agency for Health Care Research and Quality;

(3) The three digit numeric identification code assigned by the Office of Acquisition Management and Policy (OAMP) to the contracting office within the servicing agency;

(4) An alphanumeric tracking number, up to ten characters, the content of which is determined by the contracting office within the servicing agency.

* * * * *

PART 317—SPECIAL CONTRACTING METHODS

5. Correct section to read as follows:

317.204 Contracts

The total of the basic and option periods shall not exceed 10 years in the case of services and the total of the basic and option quantities shall not exceed the requirement for 5 years in the case of supplies. These limitations do not apply to information technology contracts. However, statutes applicable to various classes of contracts may place additional restrictions on the length of contracts.

PART 352—SOLICITATION PROVISIONS AND CONTRACT CLAUSES

352.224-70 [Amended]

6. In 352.224-70 amend paragraph (g) by removing “The provisions of paragraph (e) of this clause shall not apply when the information is subject to conflicting or overlapping provisions in other Federal, State, or local laws” and adding “The provisions of paragraph (d) of this clause shall not apply when the information is subject to conflicting or overlapping provisions in other Federal, State, or local laws” in its place.

[FR Doc. 05-4605 Filed 3-8-05; 8:45 am]

BILLING CODE 4151-17-P